SMALL BUSINESS ADMINISTRATION

2 CFR Part 2700

13 CFR Parts 103, 124 and 134

RIN 3245-AG40

Agent Revocation and Suspension Procedures

AGENCY: Small Business Administration.

ACTION: Proposed rule; notice of extension of comment period.

SUMMARY: On October 16, 2014, the U.S. Small Business Administration (SBA or Agency) proposed detailed procedures for the suspension and revocation of an Agent's privilege to do business with the United States Small Business Administration (SBA). SBA provided a 60-day comment period ending on December 15, 2014. In this notice, SBA is extending the comment period an additional 60 days to February 14, 2015.

DATES: The comment period for the proposed rule published on October 16, 2014, at 79 FR 62060, is extended through February 14, 2015.

ADDRESSES: You may submit comments, identified by RIN: 3245-AG40 by any of the following methods:

Federal eRulemaking Portal: http://www.regulations.gov. Follow the instructions for submitting comments.

Mail/Hand Delivery/Courier: Debra L. Mayer, Chief, Supervision and Enforcement, Office of Credit Risk Management, 409 Third Street SW., 8th Floor, Washington, DC 20416.

SBA will post all comments to this proposed rule without change on www.regulations.gov. If you wish to submit confidential business information (CBI) as defined in the User Notice at www.regulations.gov, you must submit such information to Debra L. Mayer, Chief, Supervision and Enforcement, Office of Credit Risk Management, 409 Third Street SW., 8th Floor, Washington, DC 20416 or send an email to debra.mayer@sba.gov. Highlight the information that you consider to be CBI and explain why you believe SBA should hold this information as confidential. SBA will review the information and make the final determination whether it will publish the information.

FOR FURTHER INFORMATION CONTACT: Debra L. Mayer, Chief, Supervision and Enforcement, Office of Credit Risk Management, 202-205-7577, email: debra.mayer@sba.gov.

SUPPLEMENTARY INFORMATION: In the proposed rule (79 FR 62060), SBA sought public comment on proposed detailed procedures for the suspension and revocation of an Agent's privilege to do business with the United States Small Business Administration (SBA) within a single Part of the Code of Federal Regulations; removing 8(a) program specific procedures for Agent suspension and revocation; clarifying existing and related regulations as to suspension, revocation, and debarment; and removing Office of Hearings and Appeals jurisdiction over Agent suspensions and revocations and government-wide debarment and suspension actions. The proposed rule would also conform SBA suspension and revocation procedures for Agents with general government-wide non-procurement suspension and debarment procedures. SBA provided a 60-day comment period ending on December 15, 2014.

SBA has received requests for an extension of the comment period from two trade associations that represent participants in SBA's business loan programs and one comment on the substance of the proposed rule. SBA believes that the Agency and affected parties will benefit from more public input before it finalizes any changes. Therefore, SBA is extending the comment period through February 14, 2015. This will also give more time to affected businesses and interested parties to review the proposed changes and prepare their comments to the proposed rule.

Dated: December 5, 2014.
Ann Marie Mehlum,
Associate Administrator, Office of Capital Access.

[FR Doc. 2014-29142 Filed 12-11-14; 8:45 am]

BILLING CODE 8025-01-P